DEPARTMENT OF ENERGY

10 CFR Part 430

[Docket No. EERE-2011-BT-STD-0006]

RIN 1904-AC43

Energy Efficiency Program for Consumer Products: Public Meeting and Availability of the Framework Document for General Service Fluorescent Lamps and Incandescent Reflector Lamps

AGENCY: Office of Energy Efficiency and Renewable Energy, Department of Energy.

ACTION: Notice of public meeting and availability of the Framework Document.

SUMMARY: The U.S. Department of Energy (DOE or the Department) is initiating the rulemaking and data collection process to consider establishing amended energy conservation standards for certain general service fluorescent lamps (GSFLs) and incandescent reflector lamps (IRLs). Accordingly, DOE will hold a public meeting to discuss and receive comments on its planned analytical approach and the issues it will address in this rulemaking proceeding. DOE welcomes written comments from the public on this rulemaking. To inform stakeholders and to facilitate this process, DOE has prepared a framework document which details the analytical approach and identifies several issues on which DOE is particularly interested in receiving comment. The framework document is posted at: http://www.eere.energy.gov/buildings/appliance_standards/residential/incandescent_lamps.html.

DATES: The Department will hold a public meeting on October 4, 2011, from 9 a.m. to 5 p.m. in Washington, DC for both this rulemaking on GSFL and IRL standards and the rulemaking on test procedures for GSFLs, general service incandescent lamps (GSILs), and IRLs. Any person requesting to speak at the public meeting should submit such request along with a signed original and an electronic copy of the statement to be given at the public meeting before 4 p.m., October 4, 2011. Written comments on the framework document are welcome, especially following the public meeting, and should be submitted by October 31, 2011.

ADDRESSES: The public meeting will be held at the U.S. Department of Energy, Forrestal Building, Room 1E-245, 1000 Independence Avenue, SW., Washington, DC 20585-0121. Please note that foreign nationals participating in the public meeting are subject to advance security screening procedures. If a foreign national wishes to participate in the public meeting, please inform DOE of this fact as soon as possible by contacting Ms. Brenda Edwards at (202) 586-2945 so that the necessary procedures can be completed. Please also note that those wishing to bring laptops to the meeting will be required to obtain a property pass. Visitors should avoid bringing laptops, or allow an extra 45 minutes.

Stakeholders may submit comments, identified by docket number EERE-2011-BT-STD-0006 and/or Regulation Identifier Number (RIN) 1904-AC43, by any of the following methods:

• Federal eRulemaking Portal: http://www.regulations.gov. Follow the instructions for submitting comments.

• E-mail: GSFL-IRL_2011-STD-0006@ee.doe.gov. Include EERE-2011-BT-STD-0006 and/or RIN 1904-AC43 in the subject line of the message.

• Mail: Ms. Brenda Edwards, U.S. Department of Energy, Building Technologies Program, Mailstop EE-2J, Framework Document for General Service Fluorescent Lamps and Incandescent Reflector Lamps, EERE-2011-BT-STD-0006 and/or RIN 1904-AC43, 1000 Independence Avenue, SW., Washington, DC 20585-0121. Please submit one signed paper original.

• Hand Delivery/Courier: Ms. Brenda Edwards, U.S. Department of Energy, Building Technologies Program, Sixth Floor, 950 L'Enfant Plaza, SW., Washington, DC 20024. Please submit one signed paper original.

Instructions: All submissions received must include the agency name and docket number or RIN number for this rulemaking.

Docket: The docket for this rulemaking is available for review at http://www.regulations.gov, and will include Federal Register notices, framework documents, public meeting attendee lists and transcripts, comments, and other supporting documents/materials. All documents in the docket are listed in the http://www.regulations.gov index. Not all documents listed in the index may be publicly available, however, such as information that is exempt from public disclosure.

A link to the docket web page can be found at: http://www.eere.energy.gov/buildings/appliance_standards/residential/incandescent_lamps.html. This web page contains a link to the docket for this notice on regulations.gov. The regulations.gov web page contains instructions on how to access all documents, including public comments, in the docket.

FOR FURTHER INFORMATION CONTACT:

Dr. Tina Kaarsberg, U.S. Department of Energy, Office of Energy Efficiency and Renewable Energy, Building Technologies, EE-2J, 1000 Independence Avenue, SW., Washington, DC 20585-0121. Telephone: (202) 287-1393. E-mail: Tina.Kaarsberg@ee.doe.gov.

Ms. Elizabeth Kohl, U.S. Department of Energy, Office of the General Counsel, GC-71, 1000 Independence Avenue, SW., Washington, DC 20585-0121. Telephone: (202) 586-7796. E-mail: Elizabeth.Kohl@hq.doe.gov.

For information on how to submit or review public comments and on how to participate in the public meeting, contact Ms. Brenda Edwards, U.S. Department of Energy, Office of Energy Efficiency and Renewable Energy, Building Technologies Program, EE-2J, 1000 Independence Avenue, SW., Washington, DC, 20585-0121. Telephone (202) 586-2945. E-mail: Brenda.Edwards@ee.doe.gov.

SUPPLEMENTARY INFORMATION: Title III of Energy Policy and Conservation Act (EPCA) (42 U.S.C. 6291 et seq.) sets forth a variety of provisions designed to improve energy efficiency. Part B of Title III (42 U.S.C. 6291-6309) established the “Energy Conservation Program for Consumer Products Other Than Automobiles,” which includes major household appliances.¹ Subsequent amendments expanded Title III of EPCA to include additional consumer products and certain commercial and industrial equipment, including certain fluorescent and incandescent lamps—the products that are the focus of this document. In particular, amendments to EPCA in the Energy Policy Act of 1992 (EPAct 1992), Public Law 102-486, established energy conservation standards for certain classes of GSFLs and IRLs, and required DOE to conduct two rulemaking cycles to determine whether these standards should be amended. (42 U.S.C. 6291(1), 6295(i)(1) and (3)-(4)) EPCA also authorized DOE to adopt standards for additional GSFLs if such standards were warranted. (42 U.S.C. 6295(i)(5))

¹ Part B was re-designated part A on codification in the U.S. Code for editorial reasons.

DOE completed the first cycle of amendments by publishing a final rule in the Federal Register in July 2009 (hereafter referred to as the 2009 Lamps Rule). 74 FR 34080 (July 14, 2009). The 2009 Lamps rule addressed two statutory directives under 42 U.S.C. 6295(i) by amending existing GSFL and IRL energy conservation standards. (42 U.S.C. 6295(i)(3)) and adopting standards for additional GSFLs (42 U.S.C. 6295(i)(5)). This rule also amended the definition of “colored fluorescent lamp” and “rated wattage” and adopted test procedures applicable to the newly covered GSFL. Information regarding the 2009 Lamps Rule can be found on DOE's Web site at: http://www.eere.energy.gov/buildings/appliance_standards/residential/incandescent_lamps.html.

EPAct 1992 amendments to EPCA added as covered products certain IRLs with wattages of 40 watts (W) or higher, and established energy conservation standards for these IRLs. In defining the term “incandescent reflector lamp,” EPAct 1992 excluded lamps with elliptical reflector (ER) and bulged reflector (BR) bulb shapes, and with diameters of 2.75 inches or less. Therefore, such IRLs were neither included as covered products nor subject to EPCA's standards for IRLs.

Section 322(a)(1) of the Energy Independence and Security Act of 2007 (EISA 2007) subsequently amended EPCA to expand the Act's definition of “incandescent reflector lamp” to include lamps with a diameter between 2.25 and 2.75 inches, as well as lamps with ER, BR, bulged parabolic aluminized reflector (BPAR), or similar bulb shapes. (42 U.S.C. 6291(30)(C)(ii) and (F)) Section 322(b) of EISA 2007, in amending EPCA to set forth revised standards for IRLs in new section 325(i)(1)(C), exempted from these standards the following categories of IRLs: (1) Lamps rated 50 watts or less that are ER30, BR30, BR40, or ER40; (2) lamps rated 65 watts that are BR30, BR40, or ER40 lamps; and (3) R20 incandescent reflector lamps rated 45 watts or less. (42 U.S.C. 6295(i)(C)) DOE refers to these three categories of lamps collectively as certain reflector (R), ER and BR IRLs.

DOE has concluded, for the reasons that follow, that it has the authority under EPCA to adopt standards for these R, ER, and BR IRLs, and that these lamps are covered by the directive in 42 U.S.C. 6295(i)(3) to amend EPCA's standards for IRLs. First, by amending the definition of “incandescent reflector lamp” (42 U.S.C. 6291(30)(C)(ii) and (F)), EISA 2007 effectively brought these R, ER and BR IRLs into the Federal energy conservation standards program as covered products, thereby subjecting them to DOE's regulatory authority. Second, although 42 U.S.C. 6295(i)(1)(C) exempts these R, ER and BR IRLs from the standards specified in 42 U.S.C. 6295(i)(1)(B), EPCA directs that DOE amend the standards laid out in 42 U.S.C 6295(i)(1), which includes subparagraph (C). As a result, the statutory text exempted these bulbs only from the standards specified in 42 U.S.C. 6295(i)(1), not from future regulation. Consequently, DOE is considering energy conservation standards for these R, ER and BR IRLs. DOE initiated a new rulemaking for these products by publishing a framework document and publishing a notice announcing its availability. 75 FR 23191 (May 3, 2010). DOE held a public meeting on May 26, 2010 to seek input from interested parties on its methodologies, assumptions, and data sources.

To initiate the second rulemaking cycle to consider amended energy conservation standards for GSFLs and IRLs (other than the certain R, ER and BR IRLs discussed in the preceding paragraphs), DOE has prepared a framework document to explain the issues, analyses, and processes it anticipates using for the development of potential energy efficiency standards for certain GSFLs and IRLs. The framework document is available at http://www.eere.energy.gov/buildings/appliance_standards/residential/incandescent_lamps.html.

In a separate rulemaking proceeding, DOE is also considering amendments to the test procedures used for determining the performance of GSFLs and IRLs. DOEs proposed amendments to the test procedures for GSFLs and IRLs are published elsewhere in today's Federal Register.

As noted in DATES, DOE will hold a public meeting on October 4, 2011 in Washington, DC to discuss the analyses presented and issues identified in the framework document prepared for the development of potential GSFL and IRL energy efficiency standards. At the public meeting, the Department will make a number of presentations, invite discussion on the rulemaking process as it applies to the covered products, and solicit comments, data, and information from participants and other interested parties. The Department encourages those who wish to participate in the public meeting to obtain the framework document and to be prepared to discuss its contents.

Public meeting participants need not limit their comments to the issues identified in the framework document. The Department is also interested in receiving views concerning other relevant issues that participants believe would affect energy conservation standards for these products or the applicable test procedures. Furthermore, the Department welcomes all interested parties, regardless of whether they participate in the public meeting, to submit in writing by the date specified in the DATES section, comments and information on matters addressed in the framework document and on other matters relevant to consideration of standards for GSFL and IRL.

The public meeting will be conducted in an informal, facilitated, conference style. There shall be no discussion of proprietary information, costs or prices, market shares, or other commercial matters regulated by U.S. antitrust laws. A court reporter will record the proceedings of the public meeting, after which a transcript will be made available on DOE's Web site at http://www.eere.energy.gov/buildings/appliance_standards/residential/incandescent_lamps.html.

After the public meeting and the close of the comment period on the framework document, DOE will begin collecting data, conducting the analyses as discussed in the framework document and at the public meeting, and reviewing the comments received.

DOE considers public participation to be a very important part of the process for setting energy conservation standards. DOE actively encourages the participation and interaction of the public during the comment period in each stage of the rulemaking process. Beginning with the framework document, and during each subsequent public meeting and comment period, interactions with and between members of the public provide a balanced discussion of the issues to assist DOE in the standards rulemaking process. Accordingly, anyone who would like to participate in the public meeting, receive meeting materials, or be added to the DOE mailing list to receive future notices and information regarding this rulemaking on GSFL and IRL, should contact Ms. Brenda Edwards at (202) 586-2945, or via e-mail at: Brenda.Edwards@ee.doe.gov.

Issued in Washington, DC, on September 6, 2011.
Kathleen B. Hogan,
Deputy Assistant Secretary for Energy Efficiency, Office of Technology Development, Energy Efficiency and Renewable Energy.

[FR Doc. 2011-23245 Filed 9-13-11; 8:45 am]

BILLING CODE 6450-01-P